DEPARTMENT OF TRANSPORTATION

Federal Aviation Administration

Approval of Noise Compatibility Program, Ted Stevens Anchorage International Airport and Lake Hood Seaplane Base, Anchorage, AK

AGENCY: Federal Aviation Administration, DOT.

ACTION: Notice.

SUMMARY: The Federal Aviation Administration (FAA) announces its findings on the Noise Compatibility Program submitted by the Alaska Department of Transportation & Public Facilities (ADOT&PF) under the provisions of 49 U.S.C. (the Aviation Safety and Noise Abatement Act, hereinafter referred to as “the Act”) and 14 CFR Part 150. These findings are made in recognition of the description of Federal and nonfederal responsibilities in Senate Report No. 96-52 (1980). On July 27, 2015, the FAA determined that the noise exposure maps (NEM) submitted by the ADOT&PF under Part 150 were in compliance with applicable requirements. On November 17, 2015, the FAA approved the Ted Stevens Anchorage International Airport (ANC) and Lake Hood Seaplane Base (LHD) noise compatibility program (NCP). Most of the recommendations of the program were approved.

DATES: Effective Date: The effective date of the FAA's approval of the ANC and LHD NCP is November 17, 2015.

FOR FURTHER INFORMATION CONTACT: Leslie Grey, Federal Aviation Administration, Alaskan Region Airports Division, 222 W. 7th Avenue, Annex Building, Rm. A36, Anchorage, Alaska 99513, phone number: 907-271-5453. Documents reflecting this FAA action may be reviewed at this same location by appointment with the above contact.

SUPPLEMENTARY INFORMATION: This notice announces that the FAA has given its overall approval to the NCP for ANC and LHD effective November 17, 2015.

Under Section 47504 of the Act, an airport operator who has previously submitted a NEM may submit to the FAA a NCP which sets forth the measures taken or proposed by the airport operator for the reduction of existing non-compatible land uses and prevention of additional non-compatible land uses within the area covered by the NEM. The Act requires such programs to be developed in consultation with interested and affected parties including local communities, government agencies, airport users, and FAA personnel.

Each airport NCP developed in accordance with Title 14 Code of Federal Regulations (CFR) Part 150 is a local program, not a Federal Program. The FAA does not substitute its judgment for that of the airport operator with respect to which measures should be recommended for action. The FAA's approval or disapproval of each specific measure proposed by an airport sponsor in an Record of Approval (ROA) is determined by applying approval criteria prescribed in 14 CFR 150.35(b):

The Administrator approves programs under this part, if—

(1) It is found that the program measures to be implemented would not create an undue burden on interstate or foreign commerce (including any unjust discrimination) and are reasonably consistent with achieving the goals of reducing existing noncompatible land uses around the airport and of preventing the introduction of additional noncompatible land uses;

(2) The program provides for revision if made necessary by the revision of the noise map; and

(3) Those aspects of programs relating to the use of flight procedures for noise control can be implemented within the period covered by the program and without—

(i) Reducing the level of aviation safety provided;

(ii) Derogating the requisite level of protection for aircraft, their occupants and persons and property on the ground;

(iii) Adversely affecting the efficient use and management of the Navigable Airspace and Air Traffic Control Systems; or

(iv) Adversely affecting any other powers and responsibilities of the Administrator prescribed by law or any other program, standard, or requirement established in accordance with law.

Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Anchorage, AK.

ADOT&PF submitted to the FAA on December 19, 2014, the NEM, descriptions, and other documentation produced during the NCP planning study conducted from November 17, 2011 through December 19, 2014. The ANC and LHD NEMs were determined by FAA to be in compliance with applicable requirements on July 27, 2015. Notice of this determination was published in the Federal Register on July 31, 2015.

The ANC and LHD study contains a proposed NCP comprised of actions designed for phased implementation by airport management and adjacent jurisdictions from November 17, 2015 to the year 2020. It was requested that FAA evaluate and approve this material as a NCP as described in Section 47504 of the Act. The FAA began its review of the NCP on July 27, 2015, and was required by provisions of the Act to approve or disapprove the program within 180-days (other than the use of new or modified flight procedures for noise control). Failure to approve or disapprove such program within the 180-day period shall be deemed to be an approval of such program.

The submitted program contained fifteen (15) proposed actions for noise mitigation on and off the airport. The FAA completed its review and determined that the procedural and substantive requirements of the Act and 14 CFR Part 150 have been satisfied. The overall program, therefore, was approved by the FAA effective November 17, 2015.

Outright approval was granted for twelve (12) proposed actions on and/or off the airport. Two of the proposed measures in the NCP were disapproved for purposes of 14 CFR Part 150 because the measures benefit land uses with noise levels below the 65 DNL. Another measure was disapproved because it is eligible for funding as a terminal improvement per the AIP Handbook. However, these measures could be implemented by the Airport Sponsor on a voluntary basis.

These determinations are set forth in detail in a Record of Approval (ROA) signed by the FAA on November 17, 2015. The Record of Approval, as well as other evaluation materials and the documents comprising the submittal, are available for review at the FAA office listed above and at the administrative office of the ADOT&PF. The Record of Approval also will be available on-line at: http://www.faa.gov/airports/environmental/airport_noise/part_150/states/ak/.

Issued in Anchorage, Alaska on November 17, 2015.
Kristi A. Warden,
Acting Division Manager, Alaskan Region Airports Division.

[FR Doc. 2015-29916 Filed 11-23-15; 8:45 am]

BILLING CODE 4910-13-P